ENVIRONMENTAL PROTECTION AGENCY

[ER-FRL-6607-2]

Environmental Impact Statements and Regulations; Availability of EPA Comments

Availability of EPA comments prepared April 24, 2000 through April 28, 2000 pursuant to the Environmental Review Process (ERP), under section 309 of the Clean Air Act and section 102(2)(c) of the National Environmental Policy Act as amended. Requests for copies of EPA comments can be directed to the Office of Federal Activities at (202) 564-7167.

An explanation of the ratings assigned to draft environmental impact statements (EISs) was published in FR dated April 14, 2000 (65 FR 20157).

Draft EISs

ERP No. D-BOP-K80041-CA Rating EC2, Lassen County Federal Correctional Institution (FCI), Construction and Operation, To House Median-Security Inmates and Federal Prison Camp, Possible Site is Southwest Site, Lassen County, CA.

Summary: EPA expressed concern that potential air, water and waste impacts from prison industry were not fully disclosed. EPA requested that next document provide additional information on the above issues and building design.

Final EISs

ERP No. F-AFS-J65297-MT Bull Lake Estates Road Access Project, Implementation, Easement Grant Permit, Kootenai National Forest, Three Rivers Rangers District, Lincoln County, MT.

Summary: While EPA did not object to the statutorily mandated road access, it did express environmental concerns regarding potential secondary project impacts to water quality, fisheries, and wildlife.

ERP No. F-TPT-K61147-CA Presidio of San Francisco General Management Plan, Implementation, New Development and Uses within the Letterman Complex, Golden Gate National Recreation Area, City and County of San Francisco, CA.

Summary: No formal comment letter was sent to the preparing agency.

Dated: May 9, 2000.
Joseph C. Montgomery,
Director, NEPA Compliance Division, Office of Federal Activities.

[FR Doc. 00-12016 Filed 5-11-00; 8:45 am]

BILLING CODE 6560-50-U